NUCLEAR REGULATORY COMMISSION

Final Regulatory Guide: Issuance, Availability

The U.S. Nuclear Regulatory Commission (NRC) has issued a revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

Revision 1 of Regulatory Guide 1.188, entitled “Standard Format and Content for Applications To Renew Nuclear Power Plant Operating Licenses,” describes a method that the NRC staff finds acceptable for complying with the agency's regulatory requirements in Title 10, Part 54, of the Code of Federal Regulations (10 CFR part 54), “Requirements for Renewal of Operating Licenses for Nuclear Power Plants” (commonly known as the license renewal rule). Specifically, 10 CFR part 54 specifies the information that a nuclear power plant licensee must include in its application to renew an operating license issued by the NRC.

The NRC initially issued Regulatory Guide 1.188 in July 2001, after soliciting and resolving public comments on three draft regulatory guides (DG-1104 in August 2000, DG-1047 in August 1996, and DG-1009 in December 1990). As such, Regulatory Guide 1.188 incorporated lessons learned from the review of license renewal applications and Owners Group topical report reviews. The guide also incorporated relevant information from development of the “Standard Review Plan for the Review of License Renewal Applications for Nuclear Power Plants” (SRP-LR) (NUREG-1800),¹ and the “Generic Aging Lessons Learned (GALL) Report” (NUREG-1801),1 as well as a summary of public comments received on those documents (NUREG-1832, “Analysis of Public Comments on the Revised License Renewal Guidance Documents.”) ²

¹ Copies are available at current rates from the U.S. Government Printing Office, P.O. Box 37082, Washington, DC 20402-9328 (telephone (202) 512-1800); or from the National Technical Information Service at 5285 Port Royal Road, Springfield, VA 22161; http://www.ntis.gov; or (703) 487-4650. Copies are available for inspection or copying for a fee from the NRC's Public Document Room at 11555 Rockville Pike, Rockville, MD; the PDR's mailing address is USNRC PDR, Washington, DC 20555; telephone (301) 415-4737 or (800) 397-4209; fax (301) 415-3548; or e-mail PDR@nrc.gov. These documents are also available electronically through the NRC's public Web site at http://www.nrc.gov/reading-rm/doc-collections/nuregs/staff/.

² Copies are available at current rates from the U.S. Government Printing Office, P.O. Box 37082, Washington, DC 20402-9328 (telephone (202) 512-1800); or from the National Technical Information Service at 5285 Port Royal Road, Springfield, VA 22161; http://www.ntis.gov; or (703) 487-4650. Copies are available for inspection or copying for a fee from the NRC's Public Document Room at 11555 Rockville Pike, Rockville, MD; the PDR's mailing address is USNRC PDR, Washington, DC 20555; telephone (301) 415-4737 or (800) 397-4209; fax (301) 415-3548; or e-mail PDR@nrc.gov. These documents are also available electronically through the NRC's public Web site at http://www.nrc.gov/reading-rm/doc-collections/nuregs/staff/.

Since the NRC initially published Regulatory Guide 1.188 in July 2001, the staff proposed to update both the SRP-LR (NUREG-1800) and the GALL Report (NUREG-1801). Consequently, the staff also decided to revise Regulatory Guide 1.188 to reflect the proposed updates to the guidance documents. Toward that end, the staff prepared Draft Regulatory Guide DG-1140, which also included a modification through which the NRC staff endorsed (with two exceptions) Revision 5 of NEI 95-10, “Industry Guideline for Implementing the Requirements of 10 CFR Part 54 “ The License Renewal Rule,” which the Nuclear Energy Institute (NEI) published in January 2005.³ Specifically, the staff took exception to the use of a portion of Appendix F to Revision 5 of NEI 95-10, from the unnumbered paragraph following paragraph 4.4 through the end of Section 4, “Non-Safety SSCs Directly Connected to Safety-Related SSCs.” In addition, the NRC staff took exception to the use of paragraph 5.2.3.1, “Exposure Duration.”

³ Copies are available for inspection or copying for a fee from the NRC's Public Document Room at 11555 Rockville Pike, Rockville, MD; the PDR's mailing address is USNRC PDR, Washington, DC 20555; telephone (301) 415-4737 or (800) 397-4209; fax (301) 415-3548; e-mail PDR@nrc.gov. Revision 5 of NEI 95-10 is also available through the NRC's license renewal Web page at http://www.nrc.gov/reactors/operating/licensing/renewal/guidance.html#nuclear, and through the NRC's Agencywide Documents Access and Management System (ADAMS) at http://www.nrc.gov/reading-rm/adams.html, under Accession No. ML050280113. Note, however, that the NRC has temporarily limited public access to ADAMS so that the agency can complete security reviews of publicly available documents and remove potentially sensitive information. Please check the NRC's Web site for updates concerning the resumption of public access to ADAMS.

The NRC staff then published a Federal Register notice (70 FR 5494) on February 2, 2005, to solicit stakeholder comments on Draft Regulatory Guide DG-1140 and/or Revision 5 of NEI 95-10, and specifically on any inconsistency or incompatibility between the guidance in these documents and the NRC guidance set forth in NUREG-1800 and NUREG-1801. Toward that end, the NRC also held a public workshop on March 2, 2005, to give participants an opportunity to ask questions, obtain further information, offer comments and opinions, and otherwise facilitate the formulation and preparation of written comments for NRC staff consideration of the revised license renewal guidance documents.

The public comment period closed on March 31, 2005, without the submission of any stakeholder comments. However, in response to the exceptions stated in DG-1140, NEI issued Revision 6 of NEI-95-10 in June 2005 ⁴ to accept the NRC staff's position with respect to those issues, thereby rendering the staff's two exceptions unnecessary. Having reviewed this latest revision of NEI 95-10, the NRC staff finds Revision 6 acceptable for use in implementing the license renewal rule, without exceptions, as discussed in Revision 1 of Regulatory Guide 1.188. Applicants may meet the intent of the license renewal rule using methods other than those provided in Revision 6 of NEI 95-10; however, the NRC staff will determine the acceptability of such methods on a case-by-case basis.

⁴ Copies are available for inspection or copying for a fee from the NRC's Public Document Room at 11555 Rockville Pike, Rockville, MD; the PDR's mailing address is USNRC PDR, Washington, DC 20555; telephone (301) 415-4737 or (800) 397-4209; fax (301) 415-3548; e-mail PDR@nrc.gov. Revision 6 of NEI 95-10 is also available through the NRC's Agencywide Documents Access and Management System (ADAMS) at http://www.nrc.gov/reading-rm/adams.html, under Accession No. ML051860406. Note, however, that the NRC has temporarily limited public access to ADAMS so that the agency can complete security reviews of publicly available documents and remove potentially sensitive information. Please check the NRC's Web site for updates concerning the resumption of public access to ADAMS.

The NRC staff encourages and welcomes comments and suggestions in connection with improvements to published regulatory guides, as well as items for inclusion in regulatory guides that are currently being developed. You may submit comments by any of the following methods.

Mail comments to: Rules and Directives Branch, Office of Administration, U.S. Nuclear Regulatory Commission, Washington, DC 20555-0001.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Revision 1 of Regulatory Guide 1.188 may be directed to Linh N. Tran at (301) 415-4103 or by e-mail to LNT@nrc.gov.

Regulatory guides are available for inspection or downloading through the NRC's public Web site in the Regulatory Guides document collection of the NRC's Electronic Reading Room at http://www.nrc.gov/reading-rm/doc-collections/. Revision 1 of Regulatory Guide 1.188 is also available electronically through the NRC's Agencywide Documents Access and Management System (ADAMS) at http://www.nrc.gov/reading-rm/adams.html, under Accession No. ML051920430. Note, however, that the NRC has temporarily limited public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548, and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them. (5 U.S.C. 552(a))

Dated at Rockville, Maryland, this 26th day of September, 2005.
For the U.S. Nuclear Regulatory Commission.
Carl J. Paperiello,
Director, Office of Nuclear Regulatory Research.

[FR Doc. 05-19704 Filed 9-29-05; 8:45 am]

BILLING CODE 7590-01-P